DEPARTMENT OF COMMERCE

National Oceanic and Atmospheric Administration

RIN 0648-XD966

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold a meeting of its Hawaii Archipelago Fishery Ecosystem Plan (FEP) Advisory Panels (AP) to discuss and make recommendations on fishery management issues in the Western Pacific Region.

DATES: The Hawaii Archipelago FEP AP will meet on Friday, June 12, 2015, between 12 noon and 1:30 p.m.

ADDRESSES: All meetings will be held by teleconference and webconference. The teleconference will be conducted by telephone and by web. The teleconference numbers are: U.S. toll-free: 1-888-482-3560 or International Access: +1 647 723-3959, and Access Code: 5228220; The webconference can be accessed at https://wprfmc.webex.com/join/info.wpcouncilnoaa.gov

FOR FURTHER INFORMATION CONTACT: Kitty M. Simonds, Executive Director; telephone: (808) 522-8220.

SUPPLEMENTARY INFORMATION: Public comment periods will be provided in the agenda. The order in which agenda items are addressed may change. The meetings will run as late as necessary to complete scheduled business.

Schedule and Agenda for the Hawaii Archipelago FEP AP Meeting

12 noon-1:30 p.m., Friday, June 12, 2015

1. Welcome and Introductions

2. Review and Approval of the Agenda

3. Issues to be discussed at 163rd Council Meeting

A. Upcoming Council Action Items

i. Cooperative Research Priorities

ii. Five-year Research Priorities

iii. Specification of Annual Catch Limits for Main Hawaiian Islands Deep-seven Bottomfish

B. Hawaii Archipelago FEP Community Activities

4. Hawaii Archipelago FEP Issues

5. Public Comment

6. Discussion and Recommendations

7. Other Business

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 22, 2015.
Tracey L. Thompson,
Acting Deputy Director, Office of Sustainable Fisheries, National Marine Fisheries Service.

[FR Doc. 2015-12959 Filed 5-28-15; 8:45 am]

BILLING CODE 3510-22-P